DEPARTMENT OF DEFENSE

Department of the Navy

Notice of Intent To Grant Exclusive Patent License; Seahawk Biosystems Corporation

AGENCY: Department of the Navy, DOD.

ACTION: Notice.

SUMMARY: The Department of the Navy hereby gives notice of its intent to grant to Seahawk Biosystems Corporation, a revocable, nonassignable, exclusive license to practice in the field of pathogen detection and disease and infection diagnostic testing for veterinary applications (small and large animals, including equine); pathogen and toxin detection in food products derived from animals; pathogen and toxin detection in food processing; pathogen and toxin detection in, and monitoring of, public water, wastewater, and groundwater in the United States and certain foreign countries, the Government-owned inventions described in U.S. Patent No. 5,981,297 entitled “Biosensor Using Magnetically-Detected Label”, Navy Case No. 77,576 and U.S. Patent No. 6,180,418 entitled “Force Discrimination Assay”, Navy Case No. 78,183.

DATES: Anyone wishing to object to the grant of this license must file written objections along with supporting evidence, if any, not later than January 15, 2004.

ADDRESSES: Written objections are to be filed with the Naval Research Laboratory, Code 1004, 4555 Overlook Avenue, SW, Washington, DC 20375-5320.

FOR FURTHER INFORMATION CONTACT: Ms. Jane F. Kuhl, Technology Transfer Office, NRL Code 1004, 4555 Overlook Avenue, SW, Washington, DC 20375-5320, telephone (202) 767-7230. Due to U.S. Postal delays, please fax (202) 404-7920, E-Mail: kuhl@nrl.navy.mil or use courier delivery to expedite response.

(Authority: 35 U.S.C. 207, 37 CFR Part 404.)

Dated: December 23, 2003.
S.K. Melancon,
Paralegal Specialist, Office of Judge Advocate General, Alternate Federal Register Liaison Officer.

[FR Doc. 03-32153 Filed 12-30-03; 8:45 am]

BILLING CODE 3810-FF-P